ENVIRONMENTAL PROTECTION AGENCY

[ER-FRL-6699-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 11, 2008 (73 FR 19833).

Draft EISs

EIS No. 20080067, ERP No. D-FHW-F40442-MT, Detroit River International Crossing Study, Propose Border Crossing System between the International Border Cities of Detroit, Michigan and Windsor, Ontario, Wayne County, MI.

Summary: EPA expressed environmental concerns about particulate matter and mobile source air toxics impacts, and recommended using energy efficiency and sustainability principles. Rating EC2.

EIS No. 20080103, ERP No. D-USN-E11064-FL, Mayport Naval Station Project, Proposed Homeporting of Additional Surface Ships, Several Permits, Mayport, FL.

Summary: EPA expressed environmental concerns about to the magnitude of proposed dredged material and the capacity and management limitations of existing ocean dredged material disposal sites to handle this additional material. EPA recommends additional mitigation measures for other on-shore environmental impacts related to the proposed homeporting. Rating EC2.

EIS No. 20080115, ERP No. D-UAF-E15001-FL, Eglin Air Force Base Program, Base Realignment and Closure (BRAC) 2005 Decisions and Related Action, Implementation, FL.

Summary: EPA expressed environmental concerns about impacts to air quality, low-income/minority populations, aquatic habitats, water quality and noise impacts and recommended several mitigation measures. Rating EC2.

EIS No. 20080120, ERP No. D-USN-ELL065-FL, Naval Surface Warfare Center Panama City Division (NSWC PCD), Capabilities to Conduct New and Increased Mission Operations for the Department of Navy (DON) and Customers within the three Military Operating Area and St. Andrew Bay (SAB), Gulf of Mexico, FL.

Summary: EPA expressed concerns about impacts to marine mammals, sea turtles, and marine fish. Rating EC2.

EIS No. 20080137, ERP No. D-AFS-L65552-OR, East Maury Fuels and Vegetation Management Project, Proposed Fuels and Vegetation Treatments Reduce the Risk of Stand Loss, Lookout Mountain Ranger District, Ochoco National Forest, Crook County, OR.

Summary: EPA expressed environmental concerns about potential impacts to water quality from mass wasting associated with road construction in management units with dormant landslide terrain. EPA requested additional information regarding road closures and stream crossings. Rating EC2.

EIS No. 20080144, ERP No. D-CGD-E03019-FL, Port Dolphin LLC Liquefied Natural Gas Deepwater Port License Application, Proposes to Own, Construct and Operate a Deepwater Port, Outer Continental Shelf, Manatee County, FL.

Summary: EPA expressed environmental concerns about construction impacts to hard bottom habitat and port operation impacts to icthyoplankton. Rating EC2.

EIS No. 20080184, ERP No. D-FHW-H40193-IA, I-29 Improvements in Sioux City, Construction from Burlington Northern Santa Fe Rail Road (BNSF) Bridge over the Missouri River to Existing Hamilton Boulevard Interchange, Woodbury County, IA.

Summary: EPA does not object to the proposed action. Rating LO.

EIS No. 20080128, ERP No. DS-MMS-A02245-00, Gulf of Mexico Outer Continental Shelf Oil and Gas Lease Sales: 2009-2012 Western Planning Area Sales: 210 in 2009, 215 in 2010, and 218 in 2011, and Central Planning Area Sales: 208 in 2009, 213 in 2010, 216 in 2011, and 222 in 2012, TX, LA, MS, AL, and FL.

Summary: EPA does not object to the proposed action. Rating LO.

Final EISs

EIS No. 20080052, ERP No. F-FTA-E40816-FL, Tier 1 Programmatic—Jacksonville Rapid Transit System (RTS), Improvement to Transportation in Four Primary Transit Corridors Radiating from Downtown Jacksonville, Duval County, FL.

Summary: EPA expressed environmental concerns about indirect impacts, and requested additional information on cumulative, and irreversible/irretrievable impacts.

EIS No. 20080147, ERP No. F-AFS-J65479-MT, Trapper Bunk House Land Stewardship Project, Reduce Risk from Stand-Replacing and Uncontrollable Fires, Improve Resiliency and Provide Forest Products, Fuel Reduction Research and Watershed Improvement, Bitterroot National Forest, Darby Ranger District, Ravalli County, MT.

Summary: EPA supports project objectives to reduce fire risk, improve vegetative resiliency, conduct fuel reduction research, provide timber and improve watersheds. However, EPA expressed environmental concerns about water quality impacts from sediment transport and a budget process that requires commercial timber harvest to provide funding for road maintenance or decommissioning.

EIS No. 20080155, ERP No. F-AFS-J65502-MT, Cooney McKay Forest Health and Fuels Reduction Project, Proposed to Restore Desirable Vegetative Conditions, Swan Valley near Condon, Swan Lake Ranger District, Flathead National Forest, Lake and Missoula Counties, MT.

Summary: EPA supports activities to reduce hazardous fuels and fire risk in wildland urban interface areas, but expressed environmental concerns regarding inadequate funding to implement needed watershed restoration work and mitigation measures.

EIS No. 20080161, ERP No. F-NPS-J61023-00, Quarry Visitor Center Treatment Project, To Address the Structural Deterioration, Dinosaur National Monument, CO and UT.

Summary: No formal comment letter was sent to the preparing agency.

EIS No. 20080170, ERP No. F-AFS-J65509-MT, Young Dodge Project, Proposed Timber Harvest and Associate Activities, Prescribed Burning, Road and Recreation Management, Kootenai National Forest, Rexford Ranger District, Lincoln County, MT.

Summary: EPA supports the reduction of hazardous fuels and fire risk in wildland urban interface and restoring declining tree species. However, EPA continues to have environmental concerns about erosion and sediment production associated with ground disturbing timber harvests and wildlife impacts associated with the exceedance of open road density standards.

Dated: June 10, 2008.
Robert W. Hargrove,
Director, NEPA Compliance Division, Office of Federal Activities.

[FR Doc. E8-13343 Filed 6-12-08; 8:45 am]

BILLING CODE 6560-50-P